DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: July 13, 2010, 12 p.m.-2 p.m. EST.

Place: This meeting will be held via conference call. The access information for the call is:

1-866-646-2286, and the Participant Passcode is: 3379871.

Status: The meeting will be open to the public.

Agenda: On July 13, the meeting will be called to order with remarks from the COGME Chair. The Council members will review the draft version of the 20th COGME report entitled, “Advancing Primary Care.” The draft report was sent to select organizations for feedback. The purpose of this call is to discuss the comments offered. The Council members may vote to finalize the report.

Agenda items are subject to change as priorities dictate.

For Further Information Contact: Anyone interested in obtaining a roster of members or other relevant information should write or contact Jerald M. Katzoff, Executive Secretary, COGME, Division of Medicine and Dentistry, Bureau of Health Professions, Parklawn Building, Room 9A-27, 5600 Fishers Lane, Rockville, Maryland 20857, Telephone (301) 443-4443. The Web address for information on the Council is: http://cogme.gov.

Dated: June 10, 2010.
Sahira Rafiullah,
Director, Division of Policy and Information Coordination.

[FR Doc. 2010-14562 Filed 6-16-10; 8:45 am]

BILLING CODE 4165-15-P